DEPARTMENT OF TRANSPORTATION

Federal Aviation Administration

Notice of Intent To Rule on Application (03-02-C-00-MTJ) To Impose and To Use a Passenger Facility Charge (PFC) at the Montrose Regional Airport, Submitted by the County of Montrose, CO

AGENCY: Federal Aviation Administration (FAA), DOT.

ACTION: Notice of intent to rule on application.

SUMMARY: The FAA proposes to rule and invites public comment on the application to impose and use a PFC at the Montrose Regional Airport under the provisions of 49 U.S.C. 40117 and part 158 of the Federal Aviation Regulations (14 CFR 158).

DATES: Comments must be received on or before May 15, 2003.

ADDRESSES: Comments on this application may be mailed or delivered in triplicate to the FAA at the following address: Craig Sparks, Acting Manager; Denver Airports District Office, DEN-ADO; Federal Aviation Administration; 26805 E. 68th Avenue, Suite 224; Denver, CO 80249-6361.

In addition, one copy of any comments submitted to the FAA must be mailed or delivered to Mr. Scott Brownlee, Director of Aviation, at the following address: Montrose Regional Airport, 2100 Airport Road, Montrose, Colorado 81401.

Air Carriers and foreign air carriers may submit copies of written comments previously provided to the Montrose Regional Airport, under section 158.23 of part 158.

FOR FURTHER INFORMATION CONTACT: Mr. Christopher Schaffer, (303) 342-1258; Denver Airports District Office, DEN-ADO; Federal Aviation Administration; 26805 E. 68th Avenue, Suite 224; Denver, CO 80249-6361. The application may be reviewed in person at this same location.

SUPPLEMENTARY INFORMATION: The FAA proposes to rule and invites public comment on the application (03-02-C-00-MTJ) to impose and use a PFC at the Montrose Regional Airport, under the provisions of 49 U.S.C. 40117 and Part 158 of the Federal Aviation Regulations (14 CFR part 158).

On April 2, 2003, the FAA determined that the application to impose a PFC submitted by the County of Montrose, Colorado, was substantially complete within the requirements of section 158.25 of Part 158. The FAA will approve or disapprove the application, in whole or in part, no later than July 5, 2003.

The following is a brief overview of the application.

Level of the proposed PFC: $4.50.

Proposed charge effective date: June 5, 2003.

Proposed charge expiration date: March 10, 2006.

Total requested for use approval: $821,726.89.

Brief description of proposed projects: Construct portion of Taxiway A, rehabilitate Taxiway B and a portion of the general aviation apron, construct an aircraft rescue and fire fighting (ARFF)/snow removal equipment (SRE) building, rehabilitate portion of general aviation apron (Phases I and II), rehabilitate portion of general aviation apron and Runway 13/31, extend Runway 17 safety area.

Class or classes of air carriers that the public agency has requested not be required to collect PFC's: None.

Any person may inspect the application in person at the FAA office listed above under FOR FURTHER INFORMATION CONTACT and at the FAA Regional Airports Office located at: Federal Aviation Administration, Northwest Mountain Region, Airports Division, ANM-600, 1601 Lind Avenue SW., Suite 540, Renton, WA 98055-4056.

In addition, any person may, upon request, inspect the application, notice, and other documents germane to the application in person at the Montrose Regional Airport.

Issued in Renton, Washington, on April 2, 2003.
David A. Field,
Manager, Planning, Programming and Capacity Branch, Northwest Mountain Region.

[FR Doc. 03-9183 Filed 4-14-03; 8:45 am]

BILLING CODE 4910-13-M